SMALL BUSINESS ADMINISTRATION

[Disaster Declaration #11139]

Oklahoma Disaster Number OK-00016

AGENCY: U.S. Small Business Administration.

ACTION: Amendment 2.

SUMMARY: This is an amendment of the Presidential declaration of a major disaster for Public Assistance Only for the State of Oklahoma (FEMA-1735-DR), dated 12/18/2007.

Incident: Severe Winter Storms.

Incident Period: 12/08/2007 through 01/03/2008.

EFFECTIVE DATE: 01/03/2008.

Physical Loan Application Deadline Date: 02/18/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Oklahoma, dated 12/18/2007, is hereby amended to establish the incident period for this disaster as beginning 12/08/2007 and continuing through 01/03/2008.

All other information in the original declaration remains unchanged.

(Catalog of Federal Domestic Assistance Number 59008).

Herbert L. Mitchell,
Associate Administrator for Disaster Assistance.

[FR Doc. E8-341 Filed 1-10-08; 8:45 am]

BILLING CODE 8025-01-P